DEPARTMENT OF COMMERCE

International Trade Administration

[A-580-841]

Structural Steel Beams From South Korea: Notice of Antidumping Duty Order

AGENCY: Import Administration, International Trade Administration, Department of Commerce.

ACTION: Notice of Antidumping Duty Order.

EFFECTIVE DATE: August 18, 2000.

FOR FURTHER INFORMATION CONTACT: Brandon Farlander or Laurel LaCivita, Antidumping and Countervailing Duty Enforcement Group III, Import Administration, International Trade Administration, U.S. Department of Commerce, 14th Street and Constitution Avenue, N.W., Washington, D.C. 20230, at (202) 482-0182, or (202) 482-4243, respectively.

Applicable Statute and Regulations

Unless otherwise indicated, all citations to the Tariff Act of 1930, as amended (“Act”), are to the provisions effective January 1, 1995, the effective date of the amendments made to the Tariff Act by the Uruguay Round Agreements Act (“URAA”). In addition, unless otherwise indicated, all citations to the Department of Commerce's (“Department”) regulations are to the regulations codified at 19 CFR part 351 (April 1, 1998).

Final Determination and Amended Final Determination

On July 5, 2000, the Department determined that structural steel beams from South Korea are being, or likely to be, sold in the United States at less than fair value (“LTFV”), as provided in section 735(a) of the Act. See Notice of Final Determination of Sales at Less Than Fair Value: Structural Steel Beams from South Korea, 65 FR 41437 (July 5, 2000). On August 10, 2000, the Department signed an amended final determination which is being published concurrently with this antidumping duty order.

Scope of the Order

The products covered by this investigation are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Antidumping Duty Order

On August 4, 2000, the International Trade Commission (“Commission”) notified the Department of its final determination pursuant to section 735(b)(1)(A)(i) of the Act that an industry in the United States is materially injured or threatened with material injury by reason of imports of certain structural steel beams from South Korea.

In accordance with section 736(a)(1) of the Act, the Department will direct Customs officers to assess, upon further advice by the Department, antidumping duties equal to the amount by which the normal value of the merchandise exceeds the export price (or constructed export price) of the merchandise for all relevant entries of structural steel beams from South Korea, minus the amount determined to constitute an export subsidy, as discussed below. These antidumping duties will be assessed on all unliquidated entries of structural steel beams from South Korea entered, or withdrawn from warehouse, for consumption on or after February 11, 2000, the date on which the Department published its notice of preliminary determination in the Federal Register. See Notice of Preliminary Determination of Sales at Less Than Fair Value: Structural Steel Beams From South Korea, 65 FR 6984 (February 11, 2000).

We note that in the companion countervailing duty investigation, the Department identified an export subsidy to Kangwon. See Issues and Decision Memorandum: Final Affirmative Countervailing Duty Determination: Structural Steel Beams from the Republic of Korea—(Period of Investigation: January 1, 1998 Through December 31, 1998), at 17 (June 26, 2000), for details on the export industry facility loan subsidy for Kangwon. This Issues and Decision Memorandum accompanied the Final Affirmative Countervailing Duty Determination: Structural Steel Beams From the Republic of Korea, 65 FR 41051 (July 3, 2000). Therefore, for cash deposit purposes, we are subtracting from Kangwon's cash deposit rate that portion of the rate attributable to the export subsidies found in the countervailing duty investigation involving Kangwon (i.e., 0.09 percent). See section 772(c)(1)(C) of the Act and see, e.g., Notice of Antidumping Duty Order: Stainless Steel Wire Rod From Italy, 63 FR 49327 (September 15, 1998). We have made the same adjustment to the “All Others” cash deposit rate by subtracting the rate attributable to export subsidies found in the countervailing duty investigation of Kangwon. (The “All Others” rate applies to all exporters of subject structural steel beams not specifically listed.)

We will instruct the Customs Service to require a cash deposit or the posting of a bond for each entry equal to the weighted-average amount by which the NV exceeds the EP or CEP, adjusting for the export subsidy rate, as indicated below. These suspension-of-liquidation instructions will remain in effect until further notice. The “All Others” rate applies to all exporters of subject structural steel beams not specifically listed. The final amended weighted-average dumping margins are as follows:

Exporter/manufacturer | Weighted-average margin (Percent) | Bonding/cash deposit rate (Percent)
Inchon | 25.31 | 25.31
Kangwon | 49.01 | 48.92
All others | 37.25 | 37.21

This notice constitutes the antidumping duty order with respect to structural steel beams from South Korea. Interested parties may contact the Department's Central Records Unit, room B-099 of the main Commerce building, for copies of an updated list of antidumping duty orders currently in effect.

This order is published in accordance with section 736(a) of the Tariff Act of 1930, as amended.

Dated: August 10, 2000.
Troy H. Cribb,
Acting Assistant Secretary for Import Administration.

[FR Doc. 00-21108 Filed 8-17-00; 8:45 am]

BILLING CODE 3510-DS-P